DEPARTMENT OF THE INTERIOR

National Park Service

Notice of Inventory Completion: Museum of Peoples and Cultures, Brigham Young University, Provo, UT

AGENCY: National Park Service, Interior.

ACTION: Notice.

Notice is here given in accordance with the Native American Graves Protection and Repatriation Act (NAGPRA), 25 U.S.C. 3003, of the completion of an inventory of human remains and associated funerary objects in the possession of the Museum of Peoples and Cultures, Brigham Young University, Provo, UT. The human remains and associated funerary objects were removed from Utah County, UT.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and associated funerary objects was made by the Brigham Young University, Museum of Peoples and Cultures professional staff in consultation with representatives of the Ute Indian Tribe of the Uintah & Ouray Reservation, Utah and Ute Mountain Tribe of the Ute Mountain Reservation, Colorado, New Mexico & Utah.

In 1931, human remains representing a minimum of two individuals were removed from site 42UT134, American Fork Canyon, Utah County, UT, by two mineral prospectors, Mr. Strausburg and Mr. Healy. In 1967, Mr. Strausburg and Mr. Healy donated the human remains to the Museum of Peoples and Cultures (Catalog Nos. 1967.70.31.1-3 and 1967.70.33.1; and No. 1967.73.1). No known individuals were identified. The 256 associated funerary objects are 2 tin powder canisters, 1 cartridge, 33 lead musket balls, 4 stirrups, 2 bits, 2 copper bars, 1 iron clapper, 1 flint striker, 2 iron rings, 1 percussion cap, 1 iron sword hilt, 1 clay pipe, 166 beads, 1 pendant, 1 tin spoon, 2 leather strips, 1 rope, 1 horn fragment, 1 piece of worked bone, and 32 glass beads

Site 42UT143 is located on the north side of American Fork Canyon, about 1/2 mile east of the mouth of the canyon. The site consists of a single burial mound that contained both individuals and associated funerary objects. The associated funerary objects date the burial to circa A.D. 1860-1870.

At an unknown time prior to 1967, human remains representing three individuals were removed from site 42UT225, Water Canyon, east of Salem, Utah County, UT, by unknown persons. The human remains were donated to the Museum of Peoples and Cultures in 1967 by unknown individuals (Catalog No. 1967.66.1, 1967.66.2, and 1967.66.4). No known individuals were identified. The 183 associated funerary objects are 35 faunal bones, approximately 10 leather strips, 4 pistol parts, 1 iron lock plate, 4 rifle parts, 1 brass gun cap box, 6 glass buttons, 2 brass buttons, 1 brass bracelet, 1 copper bell, 2 rifle barrels, 1 leather belt fragment, 1 group of wood and bone fragments, 2 leather shoes, 3 groups of leather fragments covered in red ochre, 1 group of leather fragments, 1 leather knife sheath, 1 rusted metal bayonet, 1 axe blade, 1 metal belt buckle, 1 metal cylinder, 1 piece of a rifle hand guard, 2 straight-blade knives, 3 metal rings, 1 small metal buckle, 11 metal projectile points, 2 metal cylinders (part of a rifle), 1 metal spoon, 1 pair of metal scissors, 4 metal canister parts (possibly a powder flask), 1 leather knife case, 1 antler piece, 60 musket balls of varying sizes, 10 metal scraps, 1 wood fragment, and 4 wood and metal fragments (possibly parts of pocket knives).

Site 42UT225 is located about 500 feet from the mouth of Water Canyon, at the foot of a rock slide. The associated funerary objects date the burials to circa A.D. 1860-1870.

Consultation with representatives of the Ute Indian Tribe of the Uintah & Ouray Reservation, Utah and Ute Mountain Tribe of the Ute Mountain Reservation, Colorado, New Mexico & Utah indicate that the types of associated funerary objects and manner of burial were consistent with Ute practices dating to the mid- to late- 1800s. The location of the burials and associated funerary objects are also within historic Ute territory.

Officials of the Brigham Young University, Museum of Peoples and Cultures have determined that, pursuant to 25 U.S.C. 3001 (9-10), the human remains described above represent the physical remains of a minimum of five individuals of Native American ancestry. Officials of the Brigham Young University, Museum of Peoples and Cultures also have determined that, pursuant to 25 U.S.C. 3001 (3)(A), the 439 objects described above are reasonably believed to have been placed with or near individual human remains at the time of death or later as part of the death rite or ceremony. Lastly, officials of the Brigham Young University, Museum of Peoples and Cultures have determined that, pursuant to 25 U.S.C. 3001 (2), there is a relationship of shared group identity that can be reasonably traced between the Native American human remains and associated funerary objects and the Ute Indian Tribe of the Uintah & Ouray Reservation, Utah and Ute Mountain Tribe of the Ute Mountain Reservation, Colorado, New Mexico & Utah.

Representatives of any other Indian tribe that believes itself to be culturally affiliated with the human remains and associated funerary objects should contact Paul Stavast, Museum of Peoples and Cultures, Brigham Young University, 105 Allen Hall, Provo, UT 84602-3600, telephone (801) 422-0018, before April 13, 2009. Repatriation of the human remains and associated funerary objects to the Ute Indian Tribe of the Uintah & Ouray Reservation, Utah and Ute Mountain Tribe of the Ute Mountain Reservation, Colorado, New Mexico & Utah may proceed after that date if no additional claimants come forward.

The Brigham Young University, Museum of Peoples and Cultures is responsible for notifying the Ute Indian Tribe of the Uintah & Ouray Reservation, Utah and Ute Mountain Tribe of the Ute Mountain Reservation, Colorado, New Mexico & Utah that this notice has been published.

Dated: February 13, 2009
Sangita Chari,
Acting Manager, National NAGPRA Program.

[FR Doc. E9-5334 Filed 3-11-09; 8:45 am]

BILLING CODE 4312-50-S